NATIONAL SCIENCE FOUNDATION

Notice of Permit Applications Received Under the Antarctic Conservation Act of 1978 (Pub. L. 95-541)

AGENCY: National Science Foundation.

ACTION: Notice of Permit Applications Received under the Antarctic Conservation Act of 1978, Public Law 95-541.

SUMMARY: The National Science Foundation (NSF) is required to publish notice of permit applications received to conduct activities regulated under the Antarctic Conservation Act of 1978. NSF has published regulations under the Antarctic Conservation Act at Title 45 part 670 of the Code of Federal Regulations. This is the required notice of permit applications received.

DATES: Interested parties are invited to submit written data, comments, or views with respect to this permit application by February 13, 2006. This application may be inspected by interested parties at the Permit Office, address below.

ADDRESSES: Comments should be addressed to Permit Office, Room 755, Office of Polar Programs, National Science Foundation, 4201 Wisconsin Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctica Science, Tourism and Conservation Act of 1996, has developed regulations for the establishment of a permit system for various activities in Antarctic and designation of certain animals and certain geographic areas as requiring special protection. The regulations establish such a permit system to designate Antarctic Specially Protected Areas.

The applications received are as follows:

Permit Application No. 2006-026

Applicant: Rudolf S. Scheltema, Department of Biology, Woods Hole Oceanographic Institute, Woods Hole, MA 02543.

Activity for Which Permit Is Requested: Introduce non-indigneous species into Antarctica. The applicant proposes to bring algal cultures of Thalassiorira pseudomonas, Isochrysis galbana, and Duneliella teriolecta to be used in rearing the larvae of indigenous benthic invertebrates collected in Antarctica waters. The living larvae taken from Zooplankton samples are to be reared in the ship's laboratory using the three unicellular species of algae as a food source. The study will deal with the identification of larvae and life history of benthic invertebrates in the region of the South Shetland Islands. After completion of the study the algal cultures will be disposed of by heat sterilization.

Location: South Shetland Islands region.

Dates: January 1, 2006 to March 30, 2006.

Nadene G. Kennedy,
Permit Officer, Office of Polar Programs.

[FR Doc. 06-339 Filed 1-12-06; 8:45 am]

BILLING CODE 7555-01-M